DEPARTMENT OF TRANSPORTATION

Federal Aviation Administration

[Docket No. FAA-2021-0678]

Agency Information Collection Activities: Requests for Comments; Clearance of a Renewed Approval of Information Collection: Part 135—Operating Requirements: Commuter and On-Demand Operations and Rules Governing Persons on Board such Aircraft

AGENCY: Federal Aviation Administration (FAA), Transportation (DOT).

ACTION: Notice and request for comments.

SUMMARY: In accordance with the Paperwork Reduction Act of 1995, FAA invites public comments about our intention to request the Office of Management and Budget (OMB) approval to renew an information collection. The collection involves requirements for Air Carrier/Commercial Operators. This collection involves both recordkeeping and recording requirements for Air Carrier/Commercial Operators. The information to be collected shows compliance with the requirements of the Air Carrier's Certificate.

DATES: Written comments should be submitted by October 12, 2021.

ADDRESSES: Please send written comments:

By Electronic Docket: www.regulations.gov (Enter docket number into search field).

By mail: Sandra Ray, 1187 Thorn Run Road, Suite 200, Coraopolis, PA 15108.

By fax: 412-239-3063.

FOR FURTHER INFORMATION CONTACT: Sandra Ray by email at: Sandra.ray@faa.gov; phone: 412-329-3088.

SUPPLEMENTARY INFORMATION: Title 49 U.S.C., section 44702 authorizes issuance of air carrier operating certificates. 14 CFR part 135 prescribes requirement for Air Carrier/Commercial Operators. The information to be collected shows compliance and applicant eligibility.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0039.

Title: Part 135—Operating Requirements: Commuter and on-Demand Operations and Rules Governing Persons on Board such Aircraft.

Form Numbers: N/A.

Type of Review: Renewal of an information collection.

Background: Title 49 U.S.C., section 44702 authorizes issuance of air carrier operating certificates. 14 CFR part 135 prescribes requirement for Air Carrier/Commercial Operators. Each operator which seeks to obtain, or is in possession of, an air carrier or FAA operating certificate must comply with the requirements of 14 CFR part 135 in order to maintain data which is used to determine if the carrier is operating in accordance with minimum safety standards. Air carrier and commercial operator certification is completed in accordance with 14 CFR part 119. Part 135 contains operations and maintenance requirements.

Respondents: Approximately 1,903 operators.

Frequency: As required by regulation.

Estimated Average Burden per Response: Varies per requirement.

Estimated Total Annual Burden: 1,356,461 Hours.

Issued in Washington, DC on August 4, 2021.
Sandra L. Ray,
Aviation Safety Inspector, AFS-260.

[FR Doc. 2021-16958 Filed 8-9-21; 8:45 am]

BILLING CODE 4910-13-P